DEPARTMENT OF AGRICULTURE

Rural Business-Cooperative Service

Rural Housing Service

Rural Utilities Service

Notice of Request for Extension of a Currently Approved Information Collection

AGENCIES: Rural Business-Cooperative Service, Rural Housing Service, and Rural Utilities Service, USDA.

ACTION: Proposed collection; comments requested.

SUMMARY: In accordance with the Paperwork Reduction Act of 1995, this notice announces the Agencies' intention to request an extension for a currently approved information collection in support of Form RD 1910-11, “Application Certification, Federal Collection Policies for Consumer or Commercial Debts.”

DATES: Comments on this notice must be received by February 19, 2002, to be assured of consideration.

FOR FURTHER INFORMATION CONTACT: H. Richard Kelly, Chief, Program Operations Branch, Water Programs Division, Rural Utilities Service, USDA, STOP 1570, 1400 Independence Avenue, SW., Washington, DC 20250-1570, telephone (202) 720-9589.

SUPPLEMENTARY INFORMATION: Title: Form RD 1910-11, “Application Certification, Federal Collection Policies for Consumer or Commercial Debts.”

OMB Number: 0575-0127.

Expiration Date of Approval: March 31, 2002.

Type of Request: Extension of a currently approved information collection.

Abstract: The water and waste loans, community facilities loans, intermediary relending program loans, rural housing site loans, and business and industry direct loans are authorized by various sections of the Consolidated Farm and Rural Development Act, (7 U.S.C. 1921 et seq.), as amended. The water and waste program provides loan funds for water and waste projects serving rural communities. Community facilities loans assist rural communities to develop facilities that are essential for their communities. The rural housing site loans provide financing for the purchase and development of housing sites for low- and moderate-income families. The intermediary relending program provides loans to intermediary organizations to establish revolving loan funds that assist with rural economic and community development. The direct business and industry direct loan program provides funds to rural businesses that cannot get adequate financing from other sources.

OMB Circular A-129, “Policies for Federal Credit Programs and Non-Tax Receivables” requires that an agency will inform its loan applicants of the Federal government's debt collection policies and procedures prior to extending credit. The Circular states that further information on the implementation of credit management and debt collection can be found in the Treasury Financial Manual. A supplement to the Treasury Financial Manual requires that the Agency will ask the applicant to sign a debt collection certification statement to certify knowledge of the Government's policies. This certification statement details the consequences of delinquency on Federal loans.

The Agencies will use Form RD 1910-11 to meet the requirements of OMB Circular A-129 and the supplement to the Treasury Financial Manual for the identified programs. This form will uniformly advise applicants of the debt collection methods that will be used in recovering delinquent or defaulted loans.

Estimate of Burden: Public reporting burden for this collection of information is estimated to average .25 hours per response.

Respondents: Business or other for profit organizations, not-for-profit institutions, public organizations and local or tribal governments.

Estimated Number of Respondents: 1,625.

Estimated Number of Responses per Respondent: 1.

Estimated Number of Responses: 1,625.

Estimated Total Annual Burden on Respondents: 406 hours.

Copies of this information collection can be obtained from Tracy Gillin, Regulations and Paperwork Management Branch, at (202) 692-0039.

Comments

Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Tracy Gillin, Regulations and Paperwork Management Branch, U.S. Department of Agriculture, Rural Development, STOP 0742, 1400 Independence Ave. SW., Washington, DC 20250-0742.

All responses to this notice will be summarized and included in the request for OMB approval. All comments will also become a matter of public record.

Dated: December 5, 2001.
Hilda Gay Legg,
Administrator, Rural Utilities Service.

Dated: December 7, 2001.
John Rosso,
Acting Administrator, Rural Business-Cooperative Service.

Dated: December 7, 2001.
James. C. Alsop,
Acting Administrator, Rural Housing Service.

[FR Doc. 01-31054 Filed 12-17-01; 8:45 am]

BILLING CODE 3410-XY-U